DEPARTMENT OF COMMERCE

National Oceanic and Atmospheric Administration

50 CFR Part 660

[Docket No. 220510-0113; RTID 0648-XC289]

Fisheries Off West Coast States; Modification of the West Coast Salmon Fisheries; Inseason Actions #34 Through #36

AGENCY: National Marine Fisheries Service (NMFS), National Oceanic and Atmospheric Administration (NOAA), Commerce.

ACTION: Inseason modification of 2022 management measures.

SUMMARY: NMFS announces three inseason actions in the 2022 ocean salmon fisheries. These inseason actions modify the recreational and commercial salmon fisheries in the area from the United States/Canada border to the Oregon/California border.

DATES: The effective dates for the inseason actions are set out in this document under the heading Inseason Actions and the actions remain in effect until superseded or modified.

FOR FURTHER INFORMATION CONTACT: Shannon Penna at 562-980-4239, Email: Shannon.Penna@noaa.gov.

SUPPLEMENTARY INFORMATION:

Background

The 2022 annual management measures for ocean salmon fisheries (87 FR 29690, May 16, 2022), announced management measures for the commercial and recreational fisheries in the area from the United States (U.S.)/Canada border to the U.S./Mexico border, effective from 0001 hours Pacific Daylight Time (PDT), May 16, 2022, until the effective date of the 2023 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Chairman of the Pacific Fishery Management Council (Council), and the appropriate State Directors (50 CFR 660.409(b)—Flexible inseason management provisions).

Management of the salmon fisheries is divided into two geographic areas: north of Cape Falcon (NOF) (U.S./Canada border to Cape Falcon, OR), and south of Cape Falcon (SOF) (Cape Falcon, OR, to the U.S./Mexico border). The actions described in this document affect the NOF commercial and recreational salmon fisheries, as set out under the heading Inseason Action below.

Consultations with the Council Chairperson on these inseason actions occurred on August 4, 2022 and August 10, 2022. Representatives from NMFS, Washington Department of Fish and Wildlife (WDFW), Oregon Department of Fish and Wildlife (ODFW), California Department of Fish and Wildlife (CDFW) and Council staff participated in these consultations. Members of the Salmon Advisory Subpanel and Salmon Technical Team (STT) were also present on the calls.

These inseason actions were announced on NMFS's telephone hotline and U.S. Coast Guard radio broadcast on the date of the consultations (50 CFR 660.411(a)(2)).

Inseason Actions

Inseason Action #34

Description of the action: Inseason action #34 modifies the commercial salmon troll fishery from Humbug Mountain, OR, to the Oregon/California border (Oregon Klamath Management Zone (KMZ)). The August 2022 quota increased from 250 Chinook salmon to 658 Chinook salmon through an impact-neutral rollover of unused quota from the July 2022 commercial troll fishery in the same area.

Effective date: Inseason action #34 took effect on August 4, 2022, and remains in effect until August 28, 2022, at 11:59 p.m.

Reason and authorization for the action: The 2022 commercial salmon troll fishery in the Oregon KMZ includes three quota managed seasons: June (800 Chinook salmon), July (400 Chinook salmon), and August (250 Chinook salmon) (87 FR 29690, May 16, 2022). After the July season, 627 Chinook salmon remained uncaught. The annual management measures (87 FR 29690, May 16, 2022) provide that any remaining portion of Chinook salmon quotas in this fishery may be transferred inseason on an impact-neutral basis to the next open quota period. The STT calculated the impact-neutral transfer of 627 Chinook salmon from the July quota to the August quota would result in adding 408 Chinook salmon to the August quota, resulting in an adjusted August quota of 658 Chinook salmon. The quota transfer is impact-neutral for spawning escapement goals for Klamath River fall-run Chinook salmon (KRFC). This change results in KRFC and Sacramento River fall-run Chinook salmon escapement meeting or exceeding the escapement levels forecasted at the April 2022 Council meeting. The quota transfer also preserves 50/50 KRFC harvest sharing between non-tribal Klamath River tribal fisheries and results in a KRFC age-4 ocean harvest rate of 10 percent. This action did not increase the overall 2022 Chinook salmon quota in the SOF commercial salmon troll fishery.

The NMFS West Coast Region Regional Administrator (RA) considered the landings of Chinook salmon in the SOF commercial salmon fishery to date, fishery effort occurring to date as well as anticipated under the proposal, and the Chinook salmon quota remaining and determined that this inseason action was necessary to meet management and conservation objectives. Inseason modification of quotas is authorized by 50 CFR 660.409(b)(1)(i).

Inseason Action #35

Description of the action: Inseason action #35 modifies the Chinook salmon landing and possession limit for the commercial salmon troll fishery across the entire north of Cape Falcon area, regardless of subarea, to: 40 Chinook salmon per vessel per landing week (Thursday through Wednesday).

Effective date: Inseason action #35 took effect on August 5, 2022, and remains in effect until superseded.

Reason and authorization for the action: Inseason action #35 was necessary to allow opportunity to catch the remainder of the Chinook salmon quota and to allow greater access to coho salmon in the commercial salmon troll fishery. The RA considered the landings of Chinook and coho salmon to date and projected catch, fishery effort occurring to date and projected effort, and quotas set preseason and determined that this inseason action was necessary to meet management goals to fully utilize the salmon quotas set preseason while not exceeding conservation objectives. The modification of commercial landing and possession limits is authorized by 50 CFR 660.409(b)(1)(i).

Inseason Action #36

Description of the action: Inseason action #36 modifies the Chinook salmon landing and possession limit for the commercial salmon troll fishery across the entire north of Cape Falcon area, regardless of subarea, to: 30 Chinook salmon per vessel per landing week (Thursday through Wednesday).

Effective date: Inseason action #36 took effect on August 11, 2022, and remains in effect until superseded.

Reason and authorization for the action: Inseason action #36 was necessary to slow the rate of Chinook salmon catch in order to preserve the length of the salmon fishing season by setting a lower landing and possession limit. The RA considered the landings of Chinook salmon to date and projected catch, fishery effort occurring to date and projected effort, and quotas set preseason and determined that this inseason action was necessary to provide greater fishing opportunity and provide economic benefit to the fishery-dependent community by preserving season length. The modification of commercial landing and possession limits is authorized by 50 CFR 660.409(b)(1)(i).

All other restrictions and regulations remain in effect as announced for the 2022 ocean salmon fisheries (87 FR 29690, May 16, 2022), as modified by previous inseason action (87 FR 41260, July 12, 2022; 87 FR 49534, August 11, 2022; 87 FR 49534).

The RA determined that these inseason actions were warranted based on the best available information on Pacific salmon abundance forecasts, landings to date, anticipated fishery effort and projected catch, and the other factors and considerations set forth in 50 CFR 660.409. The states and tribes manage the fisheries in state waters adjacent to the areas of the U.S. exclusive economic zone (3-200 nautical miles; 5.6-370.4 kilometers) off the coasts of the states of Washington, Oregon, and California consistent with these Federal actions. As provided by the inseason notice procedures at 50 CFR 660.411, actual notice of the described regulatory actions was given, prior to the time the actions became effective, by telephone hotline numbers 206-526-6667 and 800-662-9825, and by U.S. Coast Guard Notice to Mariners broadcasts on Channel 16 VHF-FM and 2182 kHz.

Classification

NMFS issues these actions pursuant to section 305(d) of the Magnuson-Stevens Fishery Conservation and Management Act (MSA). These actions are authorized by 50 CFR 660.409, which was issued pursuant to section 304(b) of the MSA, and are exempt from review under Executive Order 12866.

Pursuant to 5 U.S.C. 553(b)(3)(B), there is good cause to waive prior notice and an opportunity for public comment on this action, as notice and comment would be impracticable and contrary to the public interest. Prior notice and opportunity for public comment on this action was impracticable because NMFS had insufficient time to provide for prior notice and the opportunity for public comment between the time Chinook and coho salmon abundance, catch, and effort information were developed and fisheries impacts were calculated, and the time the fishery modifications had to be implemented in order to ensure that fisheries are managed based on the best scientific information available and that fishery participants can take advantage of the additional fishing opportunity these changes provide. As previously noted, actual notice of the regulatory actions was provided to fishers through telephone hotline and radio notification. These actions comply with the requirements of the annual management measures for ocean salmon fisheries (87 FR 29690, May 16, 2022), the Fishery Management Plan (FMP), and regulations implementing the FMP under 50 CFR 660.409 and 660.411.

There is good cause under 5 U.S.C. 553(d)(3) to waive the 30-day delay in effective date, as a delay in effectiveness of this action would restrict fishing at levels inconsistent with the goals of the FMP and the current management measures.

Authority: 16 U.S.C. 1801 et seq.

Dated: August 29, 2022.
Jennifer M. Wallace,
Acting Director, Office of Sustainable Fisheries, National Marine Fisheries Service.

[FR Doc. 2022-18991 Filed 9-1-22; 8:45 am]

BILLING CODE 3510-22-P